NATIONAL SCIENCE FOUNDATION

National Science Board; Sunshine Act Meetings; Notice

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Monday, February 23, 2009, at 8 a.m.; and Tuesday, February 24, 2009 at 8 a.m.

Place: National Science Foundation, 4201 Wilson Blvd., Room 1235, Arlington, VA 22230. All visitors must report to the NSF visitor desk at the 9th and N. Stuart Streets entrance to receive a visitor's badge.

Status: Some portions open, some portions closed

Open Sessions

February 23, 2009

8 a.m.-8:05 a.m.

8:05 a.m.-10:30 a.m.

10:45 a.m.-12:15 p.m.

1:15 p.m.-2:15 p.m.

February 24, 2009

8 a.m.-9:30 a.m.

9:30 a.m.-10 a.m.

10:15 a.m.-10:30 a.m.

10:30 a.m.-11:30 a.m.

2 p.m.-3:30 p.m.

Closed Sessions

February 23, 2009

2:15 p.m.-4 p.m.

4:15 p.m.-5:30 p.m.

February 24, 2009

11:30 a.m.-12 p.m.

1:30 p.m.-1:40 p.m.

1:40 p.m.-2 p.m.

Agency Contact: Dr. Robert E. Webber, rwebber@nsf.gov, (703) 292-7000, http://www.nsf.gov/nsb/.

Matters To Be Discussed

Monday, February 23, 2009

Open Session: 8 a.m.-8:05 a.m.

• Chairman's Introduction

Committee on Programs and Plans (CPP)

Open Session: 8:05 a.m.-10:30 a.m.

• Approval of December 2008 CPP Minutes

• Committee Chairman's Remarks

• CPP Subcommittee on Polar Issues (SOPI)

○ SOPI Chairman's Remarks

○ Director's Report—Office of Polar Programs (OPP)

○ International Polar Year (IPY) Outreach and Education Highlights

○ Presidential Directive on Arctic Region Policy (NSPD-66/HSPD-25): Promoting International Scientific Cooperation

• Task Force on Sustainable Energy (SE)

○ Task Force Co-Chairmen's Remarks

○ Discussion of Task Force Draft Report

• NSB Information Item: Update on iPlant

• NSB Information Item: Update on Planning for Coherent Light Source Development

• NSB Information Item: Track 2D (High Performance Computing System Acquisition: Towards a Petascale Computing Environment for Science and Engineering)

• Discussion Item: Review of MREFC Process

○ NSB Update

○ NSF Implementation Plan

○ Discussion and Next Steps

Committee on Science and Engineering Indicators (SEI)

Open Session: 10:45 a.m.-12:15 p.m.

• Chairman's Remarks

• Science and Engineering Indicators 2010 cover

• Chapter Review Assignments and Responsibilities

• Plans for the Indicators Digest

• Discussion of Companion Piece Topic

• New Data for Science and Engineering Indicators 2012

• Chairman's Summary

Committee on Education and Human Resources (CEH)

Open Session: 1:15 p.m.-2:15 p.m.

• Approval of December 2008 Minutes

• Committee Chairman's Remarks

• Update on the Next Generation of STEM Innovators Workshop

• Presentations on STEM Learning and Basic Research in Cognitive and Developmental Sciences

Committee on Programs and Plans (CPP)

Closed Session: 2:15 p.m.-4 p.m.

• Committee Chairman's Remarks

• Award Recommendations for Three Science of Learning Centers (SLCs): Introduction & Overview

○ NSB Action Item: Science of Learning Center #1

○ NSB Action Item: Science of Learning Center #2

○ NSB Action Item: Science of Learning Center #3

Committee on Strategy and Budget (CSB)

Closed Session: 4:15 p.m.-5:30 p.m.

• NSF Budget Update

○ NSF Plans for Use of FY 2009 Economic Stimulus Funding

○ FY 2010 Budget Request Update

Tuesday, February 24, 2009

Committee on Strategy and Budget (CSB)

Open Session: 8 a.m.-9:30 a.m.

• Approval of CSB Minutes, December 10, 2008

• Committee Chairman's Remarks

• CSB Task Force on Cost Sharing (CS)

○ Approval of December 2008 Teleconference Minutes

○ Task Force Chairman's Remarks

○ Discussion of Draft Report, Investing in the Future: NSF Cost Sharing Policies for a Robust Federal Research Enterprise

○ Presentation, NSF Implementation of NSB Recommendations on NSF Cost Sharing Policy

○ Discussion of Strategy for Community Engagement

• CSB Subcommittee on Facilities, Charge

• NSF Strategic Plan

○ Status of NSF Strategic Plan Update

○ NSB Input on Key Issues for Consideration in Developing the Next NSF Strategic Plan

• NSF Budget Update

○ FY 2009 Appropriation

Executive Committee

Open Session: 9:30 a.m.-10 a.m.

• Approval of Minutes for the December 2008 Meeting

• Executive Committee Chairman's Remarks

• Approval of Closed Session Agenda Items memo for May 13-14, 2009 meeting

• Discussion of Proposed NSB Priority Setting Process

• Updates or New Business from Committee Members

Task Force on the NSB 60th Anniversary

Open Session: 10:15 a.m.-10:30 a.m.

• Approval of Minutes for the December 9, 2008 Meeting

• Task Force Chairman's Remarks

• Further Discussion and Comments Relating to NSB 60th Anniversary

Committee on Audit and Oversight (A&O)

Open Session: 10:30 a.m.-11:30 a.m.

• Approval of Minutes of the December 9, 2008 Meeting

• Committee Chairman's Opening Remarks

• Inspector General Update

• Chief Financial Officer Update

• NSB Revisions of Award Delegation Thresholds to NSF

• FY 2009 Audit Plan

• Chairman's Closing Remarks

Committee on Audit and Oversight (A&O)

Closed Session: 11:30 a.m.-12 p.m.

• OIG FY 2010 Budget

• Pending Investigations

Plenary Executive Closed

Closed Session: 1:30 p.m.-1:40 p.m.

• Approval of December 2008 Minutes

• Approval of Honorary Awards Recipients

Plenary Closed

Closed Session: 1:40 p.m.-2 p.m.

• Approval of December 2008 Minutes

• Awards and Agreements

• Closed Committee Reports

Plenary Open

Open Session: 2 p.m.-3:30 p.m.

• Approval of December 2008 Minutes

• Chairman's Report

• Director's Report

• Open Committee Reports

Brandon Powell,
Staff Assistant.

[FR Doc. E9-3298 Filed 2-13-09; 8:45 am]

BILLING CODE 7555-01-P